NATIONAL FOUNDATION ON THE ARTS AND THE HUMANITIES

Meeting of the National Museum Services Board

AGENCY: Institute of Museum and Library Services.

ACTION: Notice of meeting.

SUMMARY: This notice sets forth the agenda of a forthcoming meeting of the National Museum Services Board. This notice also describes the function of the board. Notice of this meeting is required under the Sunshine in Government Act and regulations of the Institute of Museum and Library Services, 45 CFR 1180.84.

Date/Time: 2 p.m.-5 p.m. on Monday, October 28, 2002.

Status: Open.

ADDRESSES: The Hyatt Regency Washington on Capitol Hill, Ticonderoga Room, 400 New Jersey Avenue, NW., Washington, DC (202) 737-1234.

FOR FURTHER INFORMATION CONTACT: Elizabeth Lyons, Special Assistant to the Director, Institute of Museum and Library Services, 1100 Pennsylvania Avenue, NW., Room 510, Washington, DC 20506, (202) 606-4649.

SUPPLEMENTARY INFORMATION: The National Museum Services Board is established under the Museum Services Act, Title II of the Arts, Humanities, and Cultural Affairs Act of 1976, Public Law 94-462. The Board has responsibility for the general policies with respect to the powers, duties, authorities vested in the Institute under the Museum Services Act.

The meeting on Monday, October 28, 2002 will be open to the public. If you need special accommodations due to a disability, please contact: Institute of Museum and Library Services, 1100 Pennsylvania Avenue, NW., Washington, DC 20506—(202) 606-8536—TDD (202) 606-8636 at least seven (7) days prior to the meeting date.

Agenda—85th Meeting of the National Museum Services Board at the Hyatt Regency Washington on Capitol Hill, 400 New Jersey Avenue, NW, Washington, DC; Ticonderoga Room on Monday, October 28, 2002

2 p.m.-5 p.m.

I. Chairman's Welcome

II. Approval of Minutes from the 84th MMSB Meeting

III. Director's Report

IV. Staff Reports

(a) Office of Administration and Budget

(b) Office of Public and Legislative Affairs

(c) Office of Technology and Research

(d) Office of Museum Services

(e) Office of Library Services

V. Learning Opportunity Grants Program

VI. Old/New Business

Dated: October 15, 2002.
Teresa LaHaie,
National Foundation on the Arts and Humanities, Institute of Museum and Library Services.

[FR Doc. 02-26657 Filed 10-15-02; 4:33 pm]

BILLING CODE 7036-01-M